DEPARTMENT OF HEALTH AND HUMAN SERVICES

Centers for Medicare & Medicaid Services

[Document Identifiers: CMS-R-53]

Agency Information Collection Activities: Submission for OMB Review

ACTION: Notice; withdrawal.

SUMMARY: The Centers for Medicare and Medicaid Services published a document in the Federal Register on January 27, 2014, concerning the submission of an information collection request for OMB review and a request for public comments. The document was published in error.

Withdrawal

In the Federal Register of January 27, 2014, in FR Doc. 2014-01465, on page 4345 in the second and third columns and on page 4346 in the first column, a 30-day notice for an information collection request published. We are withdrawing the notice and thereby the information collection request (ICR). At this time, we are not submitting the ICR to OMB and we are not requesting public comments. The collection is entitled, “Imposition of Cost Sharing Charges Under Medicaid and Supporting Regulations.”

Dated: February 4, 2014.
Martique Jones,
Deputy Director, Regulations Development Group, Office of Strategic Operations and Regulatory Affairs.

[FR Doc. 2014-02660 Filed 2-6-14; 8:45 am]

BILLING CODE 4120-01-P